DEPARTMENT OF COMMERCE

Census Bureau

2002 Economic Census Covering the Wholesale Trade Sector

ACTION: Proposed collection, comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before April 2, 2001.

ADDRESSES: Direct all written comments to Madeleine Clayton, Departmental Forms Clearance Officer, Department of Commerce, Room 6086, 14th and Constitution Avenue, NW, Washington, DC 20230 (or via the Internet at mclayton@doc.gov).

FOR FURTHER INFORMATION CONTACT: Requests for additional information or copies of the information collection instrument(s) and instructions should be directed to Donna Hambric, U.S. Census Bureau, Room 2682, Building 3, Washington DC 20233-0001 (301-457-2725 or via the Internet at donna.lee.hambric@census.gov).

SUPPLEMENTARY INFORMATION:

I. Abstract

The economic census, conducted under authority of Title 13, United States Code (USC), is the primary source of facts about the structure and functioning of the Nation's economy. Economic statistics serve as part of the framework for the national accounts and provide essential information for government, business, and the general public. Economic data are the Census Bureau's primary program commitment during nondecennial census years. The 2002 Economic Census covering the wholesale trade sector (as defined by the North American Industry Classification System (NAICS)) will measure the economic activity of more than 480,000 establishments. The information collected will produce basic statistics by kind of business on the number of establishments, sales, payroll, and employment. It will also yield a variety of subject statistics, including sales by commodity line, sales by class of customer, and other industry-specific measures. Primary strategies for reducing burden in Census Bureau economic data collections are to increase electronic reporting through broader use of computerized self-administered census questionnaires, on-line questionnaires, spreadsheet reporting, and other electronic data collection methods.

II. Method of Collection

Mail Selection Procedures

The wholesale trade sector of the economic census will select establishments for its mail canvass from the Census Bureau's Business Register. To be eligible for selection, an establishment will be required to satisfy the following conditions: (i) it must be classified in the wholesale trade sector; (ii) it must be an active operating establishment of a multi-establishment firm (i.e., a firm that operates at more than one physical location), or it must be a single-establishment firm with payroll (i.e., a firm operating at only one physical location); and (iii) it must be located in one of the 50 states or the District of Columbia. Mail selection procedures will distinguish the following groups of establishments:

1. Establishments of Multi-Establishment Firms

Selection procedures will assign all active operating establishments of multi-establishment firms to the mail component of the potential respondent universe. We estimate that the 2002 Economic Census mail canvass for the wholesale trade sector will include approximately 124,800 establishments of multi-establishment firms.

2. Single-Establishment Firms With Payroll

Selection procedures will assign all single-establishment firms having annualized payroll (from Federal administrative records) to the mail component of the potential respondent universe. We estimate that the 2002 Economic Census mail canvass for the wholesale trade sector will include approximately 355,200 establishments of single-establishment firms.

III. Data

OMB Number: Not available.

Form Number: The 40 standard forms used to collect information from businesses in this sector of the Economic Census are tailored to specific business practices and are too numerous to list separately in this notice. Requests for information on the proposed content of the forms should be directed to Donna Hambric, U.S. Census Bureau, Room 2682, Building 3, Washington DC 20233-0001 (301-457-2725 or via the Internet at donna.lee.hambric@census.gov).

Type of Review: Regular review.

Affected Public: State or local governments, businesses, or other for profit or non-profit institutions or organizations.

Estimated Number of Respondents: 480,000.

Estimated Time Per Response: 1.50 hours.

Estimated Total Annual Burden Hours: 720,000 hours.

Estimated Total Annual Cost: $11,030,400.

Respondent's Obligation: Mandatory.

Legal Authority: Title 13, U.S.C., Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 22, 2001.
Madeleine Clayton,
Departmental Forms Clearance Officer, Office of the Chief Information Officer.

[FR Doc. 01-2515 Filed 1-29-01; 8:45 am]

BILLING CODE 3510-07-P